DEPARTMENT OF HOMELAND SECURITY

Federal Emergency Management Agency

[Docket ID FEMA-2018-0002; Internal Agency Docket No. FEMA-B-1858]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Arizona:
Yavapai | Town of Chino Valley (18-09-0862P) | The Honorable Darryl L. Croft, Mayor, Town of Chino Valley, Town Hall, 202 North State Route 89, Chino Valley, AZ 86323 | Public Works Department, 1982 Voss Drive, #201, Chino Valley, AZ 86323 | https://msc.fema.gov/portal/advanceSearch | Jan. 14, 2019 | 040094
Yavapai | Unincorporated Areas of Yavapai County (18-09-0862P) | The Honorable Rowle P. Simmons, Chairman, Board of Supervisors, Yavapai County, 1015 Fair Street, Prescott, AZ 86305 | Yavapai County Flood Control District, 1120 Commerce Drive, Prescott, AZ 86305 | https://msc.fema.gov/portal/advanceSearch | Jan. 14, 2019 | 040093
California:
Riverside | City of Perris (18-09-0229P) | The Honorable Michael M. Vargas, Mayor, City of Perris, 101 North D Street, Perris, CA 92570 | Engineering Department, 170 Wilkerson Avenue, Perris, CA 92570 | https://msc.fema.gov/portal/advanceSearch | Jan. 3, 2019 | 060258
San Diego | City of San Marcos (18-09-0305P) | The Honorable Jim Desmond, Mayor, City of San Marcos, City Hall, 1 Civic Center Drive, San Marcos, CA 92069 | City Hall, 1 Civic Center Drive, San Marcos, CA 92069 | https://msc.fema.gov/portal/advanceSearch | Jan. 18, 2019 | 060296
San Diego | Unincorporated Areas of San Diego County (18-09-0305P) | The Honorable Kristin Gaspar, Chair, Board of Supervisors, San Diego County, 1600 Pacific Highway Room 335, San Diego, CA 92101 | San Diego County Flood Control District, Department of Public Works, 5510 Overland Avenue, Suite 410, San Diego, CA 92123 | https://msc.fema.gov/portal/advanceSearch | Jan. 18, 2019 | 060284
Florida:
Duval | City of Jacksonville (18-04-3852P) | The Honorable Lenny Curry, Mayor, City of Jacksonville, City Hall at St James Building, 117 West Duval Street, Suite 400, Jacksonville, FL 32202 | City Hall, 117 West Duval Street, Jacksonville, FL 32202 | https://msc.fema.gov/portal/advanceSearch | Jan. 3, 2019 | 120077
St. Johns | Unincorporated Areas of St. Johns County (18-04-3852P) | Mr. Henry Dean, Chairman, St. Johns County Board of Commissioners, 500 San Sebastian View, St. Augustine, FL 32804 | St. Johns County Administration Building, 4020 Lewis Speedway, St. Augustine, FL 32084 | https://msc.fema.gov/portal/advanceSearch | Jan. 3, 2019 | 125147
Kansas: Johnson | City of Overland Park (17-07-2677P) | The Honorable Carl Gerlach, Mayor, City of Overland Park, 8500 Santa Fe Drive, Overland Park, KS 66212 | City Hall, 8500 Santa Fe Drive, Overland Park, KS 66212 | https://msc.fema.gov/portal/advanceSearch | Dec. 26, 2018 | 200174
Nebraska:
Dodge | City of Scribner (18-07-0951P) | The Honorable Ken Thomas, Mayor, City of Scribner, Municipal Office, 508 3rd Street, Scribner, NE 68057 | City Office, 508 3rd Street, Scribner, NE 68057 | https://msc.fema.gov/portal/advanceSearch | Jan. 3, 2019 | 310071
Dodge | Unincorporated Areas of Dodge County (18-07-0951P) | The Honorable Bob Missel, Chairman, Board of Supervisors, Dodge County, 427 North Birchwood, Fremont, NE 68025 | Dodge County Courthouse, 435 North Park Avenue, Fremont, NE 68025 | https://msc.fema.gov/portal/advanceSearch | Jan. 3, 2019 | 310068
Madison | City of Norfolk (18-07-0950P) | The Honorable Josh Moenning, Mayor, City of Norfolk, Norfolk City Administration, 309 North 5th Street, Norfolk, NE 68701 | Planning and Zoning Department, 309 North 5th Street, Norfolk, NE 68701 | https://msc.fema.gov/portal/advanceSearch | Jan. 3, 2019 | 310147
New Jersey:
Mercer | City of Trenton (18-02-0221P) | The Honorable Reed Gusciora, Mayor, City of Trenton, 319 East State Street, Mayor's Office 208, 2nd Floor, Trenton, NJ 08608 | Trenton Fire Department, 244 Perry Street, Trenton, NJ 08618 | https://msc.fema.gov/portal/advanceSearch | Dec. 21, 2018 | 345325
Mercer | Township of Hamilton (18-02-0221P) | The Honorable Kelly Yaede, Mayor, Township of Hamilton, P.O. Box 00150, Hamilton, NJ 08650 | Municipal Building, 2090 Greenwood Avenue, Room 307, Hamilton, NJ 08609 | https://msc.fema.gov/portal/advanceSearch | Dec. 21, 2018 | 340246
Ohio:
Cuyahoga | Village of Chagrin Falls (18-05-2115P) | The Honorable Bill Tomko, Mayor, Village of Chagrin Falls, 21 West Washington Street, Chagrin Falls, OH 44022 | Village Hall, 21 West Washington Street, Chagrin Falls, OH 44022 | https://msc.fema.gov/portal/advanceSearch | Dec. 28, 2018 | 390103
Franklin | City of Dublin (18-05-2353P) | The Honorable Greg Peterson, Mayor, City of Dublin, 5200 Emerald Parkway, Dublin, OH 43017 | Dublin Engineering Building, 5800 Shier-Rings Road, Dublin, OH 43017 | https://msc.fema.gov/portal/advanceSearch | Dec. 28, 2018 | 390673
Franklin | City of Grove City (18-05-1293P) | The Honorable Richard L. Stage, Mayor, City of Grove City, 4035 Broadway Street, Grove City, OH 43123 | City Hall, 4035 Broadway Street, Grove City, OH 43123 | https://msc.fema.gov/portal/advanceSearch | Nov. 30, 2018 | 390173
Franklin | Unincorporated Areas of Franklin County (18-05-1293P) | The Honorable Kevin L. Boyce, President, Franklin County Board of Commissioners, 373 South High Street 26th Floor, Columbus, OH 43215 | Franklin County Engineer Office, 970 Dublin Road, Columbus, OH 43215 | https://msc.fema.gov/portal/advanceSearch | Nov. 30, 2018 | 390167
Summit | City of Hudson (18-05-1534P) | The Honorable David A. Basil, Mayor, City of Hudson, 115 Executive Parkway, Suite 400, Hudson, OH 44236 | City Hall, 115 Executive Parkway, Suite 400, Hudson, OH 44236 | https://msc.fema.gov/portal/advanceSearch | Dec. 6, 2018 | 390660

[FR Doc. 2018-23927 Filed 11-1-18; 8:45 am]

BILLING CODE 9110-12-P